DEPARTMENT OF ENERGY

Federal Energy Regulatory Commission

Combined Notice of Filings

Take notice that the Commission has received the following Natural Gas Pipeline Rate and Refund Report filings:

Filings Instituting Proceedings

Docket Numbers: PR15-12-000.

Applicants: NET Mexico Pipeline Partners, LLC.

Description: Tariff filing per 284.123(b)(1),: Petition for NGPA Section 311 Rate Approval to be effective 12/31/2014 TOFC: 990.

Filed Date: 12/31/14.

Accession Number: 20141231-5138.

Comments Due: 5 p.m. ET 1/21/15.

284.123(g) Protests Due:

Docket Numbers: PR15-13-000.

Applicants: Pacific Gas and Electric Company.

Description: Tariff filing per 284.123(b)(1)/.: Amendment to Statement of Operating Conditions to be effective 1/1/2015; TOFC: 980.

Filed Date: 12/31/14.

Accession Number: 20141231-5226.

Comments Due: 5 p.m. ET 1/21/15.

284.123(g) Protests Due:

Docket Numbers: RP15-299-000.

Applicants: Iroquois Gas Transmission System, L.P.

Description: Measurement Variance/Fuel Use Factors of Iroquois Gas Transmission System, L.P.

Filed Date: 12/31/14.

Accession Number: 20141231-5077.

Comments Due: 5 p.m. ET 1/12/15.

Docket Numbers: RP15-300-000.

Applicants: Rockies Express Pipeline LLC.

Description: § 4(d) rate filing per 154.204: Neg Rate 2014-12-31 Antero to be effective 12/30/2014.

Filed Date: 12/31/14.

Accession Number: 20141231-5145.

Comments Due: 5 p.m. ET 1/12/15.

Docket Numbers: RP15-301-000.

Applicants: Equitrans, L.P.

Description: § 4(d) rate filing per 154.204: Interruptible Balancing Service to be effective 12/31/9998.

Filed Date: 12/31/14.

Accession Number: 20141231-5146.

Comments Due: 5 p.m. ET 1/12/15.

Docket Numbers: RP15-302-000.

Applicants: Guardian Pipeline, L.L.C.

Description: § 4(d) rate filing per 154.204: Non-Conforming FT-1 & Negotiated Rate PAL Agreements—Wisconsin Electric Power to be effective 2/2/2015.

Filed Date: 12/31/14.

Accession Number: 20141231-5148.

Comments Due: 5 p.m. ET 1/12/15.

Docket Numbers: RP15-303-000.

Applicants: Guardian Pipeline, L.L.C.

Description: § 4(d) rate filing per 154.204: Non-Conforming Agreement with Wisconsin Electric Power Company to be effective 2/2/2015.

Filed Date: 12/31/14.

Accession Number: 20141231-5152.

Comments Due: 5 p.m. ET 1/12/15.

Docket Numbers: RP15-304-000.

Applicants: Gulf South Pipeline Company, LP.

Description: § 4(d) rate filing per 154.204: Cap Rel Neg Rate Agmt (QEP 36601/37657 to Trans LA 43686, 43687, 43688) to be effective 1/1/2015.

Filed Date: 12/31/14.

Accession Number: 20141231-5164.

Comments Due: 5 p.m. ET 1/12/15.

Docket Numbers: RP15-305-000.

Applicants: Gulf South Pipeline Company, LP.

Description: § 4(d) rate filing per 154.204: Cap Rel Neg Rate Agmt (Mobile 42488 to Exelon 43695) to be effective 1/1/2015.

Filed Date: 12/31/14.

Accession Number: 20141231-5165.

Comments Due: 5 p.m. ET 1/12/15.

Docket Numbers: RP15-306-000.

Applicants: Cheyenne Plains Gas Pipeline Company, L.

Description: § 4(d) rate filing per 154.204: Negotiated Rate TSA (Mieco) to be effective 2/1/2015.

Filed Date: 12/31/14.

Accession Number: 20141231-5171.

Comments Due: 5 p.m. ET 1/12/15.

Docket Numbers: RP15-307-000.

Applicants: Cheyenne Plains Gas Pipeline Company, L.

Description: § 4(d) rate filing per 154.204: Non-Conforming Agreement (Grasslands) to be effective 2/1/2015.

Filed Date: 12/31/14.

Accession Number: 20141231-5200.

Comments Due: 5 p.m. ET 1/12/15.

Docket Numbers: RP15-308-000.

Applicants: Rockies Express Pipeline LLC.

Description: § 4(d) rate filing per 154.204: Neg Rate 2014-12-31 Encana to be effective 1/1/2015.

Filed Date: 12/31/14.

Accession Number: 20141231-5227.

Comments Due: 5 p.m. ET 1/12/15.

Docket Numbers: RP15-309-000.

Applicants: Northern Natural Gas Company.

Description: § 4(d) rate filing per 154.204: 20141231 Negotiated Rate to be effective 1/1/2015.

Filed Date: 12/31/14.

Accession Number: 20141231-5245.

Comments Due: 5 p.m. ET 1/12/15.

Docket Numbers: RP15-310-000.

Applicants: ANR Pipeline Company.

Description: § 4(d) rate filing per 154.601: Integrys Energy Neg Rate Agmts to be effective 1/1/2015.

Filed Date: 1/2/15.

Accession Number: 20150102-5192.

Comments Due: 5 p.m. ET 1/14/15.

Docket Numbers: RP15-311-000.

Applicants: Gulf South Pipeline Company, LP.

Description: § 4(d) rate filing per 154.204: Neg Rate Agmts Filing (Exelon 43696, 47311) to be effective 1/1/2015.

Filed Date: 1/5/15.

Accession Number: 20150105-5049.

Comments Due: 5 p.m. ET 1/20/15.

Docket Numbers: RP15-312-000.

Applicants: Northwest Pipeline LLC.

Description: § 4(d) rate filing per 154.204: Non-Conforming Contract 100056 to be effective 2/5/2015.

Filed Date: 1/5/15.

Accession Number: 20150105-5136.

Comments Due: 5 p.m. ET 1/20/15.

Docket Numbers: RP15-313-000.

Applicants: East Tennessee Natural Gas, LLC.

Description: § 4(d) rate filing per 154.204: Neg Rate for NJRES 410533 to be effective 1/6/2015.

Filed Date: 1/6/15.

Accession Number: 20150106-5035.

Comments Due: 5 p.m. ET 1/20/15.

Docket Numbers: RP15-314-000.

Applicants: Gulf South Pipeline Company, LP.

Description: § 4(d) rate filing per 154.204: Addt'l Non-conforming Agmts related to Petal Merger to be effective 1/1/2015.

Filed Date: 1/6/15.

Accession Number: 20150106-5037.

Comments Due: 5 p.m. ET 1/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 7, 2015.
Nathaniel J. Davis, Sr.,
Deputy Secretary.

[FR Doc. 2015-00385 Filed 1-13-15; 8:45 am]

BILLING CODE 6717-01-P